DEPARTMENT OF COMMERCE

National Oceanic and Atmospheric Administration

RIN 0648-XD289

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Technical Subcommittee.

DATES: The meeting will be held from 8:30 a.m. on Wednesday, May 28 until 4 p.m. on Thursday, May 29, 2014.

ADDRESSES: The meeting will be held at the Gulf of Mexico Fishery Management Council's office, 2203 North Lois Avenue, Suite 1100, Tampa, FL 33607.

FOR FURTHER INFORMATION CONTACT: Dr. John Froeschke, Fishery Biologist/Statistician, Gulf of Mexico Fishery Management Council; telephone: (813) 348-1630; fax: (813) 348-1711; email: john.froeschke@gulfcouncil.org.

SUPPLEMENTARY INFORMATION: The charter vessel technical subcommittee will meet to discuss methods to improve data collection and data reporting for charter vessels in the U.S. Atlantic and Gulf of Mexico Fisheries. The subcommittee will begin work to develop recommendations on how to achieve an electronic reporting system for charter vessels. The group will consider both the national and regional plans for electronic reporting as well as agency and stakeholder perspectives and objectives. The meeting will focus on technical considerations of electronic reporting such as survey type, reporting requirements, quality assurance and quality control mechanisms, reporting mechanisms, and timeliness of fisheries data. The subcommittee will discuss potential costs, barriers to implementation, administrative responsibilities, and timelines to implementation.

Although non-emergency issues not contained in this agenda may come before this group for discussion, those issues may not be the subject of formal action during this meeting. Action will be restricted to those issues specifically identified in this notice and any issues arising after publication of this notice that require emergency action under section 305c of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: May 7, 2014.
Tracey L. Thompson,
Acting Deputy Director, Office of Sustainable Fisheries, National Marine Fisheries Service.

[FR Doc. 2014-10850 Filed 5-9-14; 8:45 am]

BILLING CODE 3510-22-P